DEPARTMENT OF ENERGY

Federal Energy Regulatory Commission

Combined Notice of Filings #1

Take notice that the Commission received the following electric corporate filings:

Docket Numbers: EC13-83-000.

Applicants: Canadian Hills Wind, LLC.

Description: Application of Canadian Hills Wind, LLC for Authorization under Section 203 of the Federal Power Act for Disposition of Jurisdictional Facilities and Request for Expedited Consideration.

Filed Date: 3/21/13.

Accession Number: 20130321-5132.

Comments Due: 5 p.m. ET 4/11/13.

Take notice that the Commission received the following exempt wholesale generator filings:

Docket Numbers: EG13-21-000.

Applicants: Alta Wind X, LLC.

Description: Notice of Self-Certification of Exempt Wholesale Generator Status of Alta Wind X, LLC.

Filed Date: 3/21/13.

Accession Number: 20130321-5127.

Comments Due: 5 p.m. ET 4/11/13.

Docket Numbers: EG13-22-000.

Applicants: Alta Wind XI, LLC.

Description: Notice of Self-Certification of Exempt Wholesale Generator Status of Alta Wind XI, LLC.

Filed Date: 3/21/13.

Accession Number: 20130321-5128.

Comments Due: 5 p.m. ET 4/11/13.

Take notice that the Commission received the following electric rate filings:

Docket Numbers: ER12-2676-000.

Applicants: Piedmont Green Power, LLC.

Description: In response to the informal request of Commission Staff for additional information of Piedmont Green Power, LLC.

Filed Date: 3/20/13.

Accession Number: 20130320-5056.

Comments Due: 5 p.m. ET 4/3/13.

Docket Numbers: ER13-233-001.

Applicants: Appalachian Power Company.

Description: Appalachian Power Company submits tariff filing per 35.17(b): Power Coordination Agreement Amendment to be effective 1/1/2014.

Filed Date: 3/22/13.

Accession Number: 20130322-5146.

Comments Due: 5 p.m. ET 4/12/13.

Docket Numbers: ER13-1141-000.

Applicants: Essential Power Massachusetts, LLC.

Description: Notice of Succession to be effective 3/21/2013.

Filed Date: 3/21/13.

Accession Number: 20130321-5055.

Comments Due: 5 p.m. ET 4/11/13.

Docket Numbers: ER13-1142-000.

Applicants: Essential Power Newington, LLC.

Description: Notice of Succession to be effective 3/21/2013.

Filed Date: 3/21/13.

Accession Number: 20130321-5056.

Comments Due: 5 p.m. ET 4/11/13.

Docket Numbers: ER13-1143-000.

Applicants: Essential Power OPP, LLC.

Description: Notice of Succession to be effective 3/21/2013.

Filed Date: 3/21/13.

Accession Number: 20130321-5059.

Comments Due: 5 p.m. ET 4/11/13.

Docket Numbers: ER13-1144-000.

Applicants: Essential Power Rock Springs, LLC.

Description: Notice of Succession to be effective 3/21/2013.

Filed Date: 3/21/13.

Accession Number: 20130321-5062.

Comments Due: 5 p.m. ET 4/11/13

Docket Numbers: ER13-1145-000.

Applicants: Puget Sound Energy, Inc.

Description: Puget Sound Energy, Inc. submits tariff filing per 35.12: Powerex Transmission Agreements to be effective 4/1/2013.

Filed Date: 3/21/13.

Accession Number: 20130321-5109.

Comments Due: 5 p.m. ET 4/11/13.

Docket Numbers: ER13-1146-000

Applicants: Puget Sound Energy, Inc.

Description: Puget Sound Energy, Inc. submits tariff filing per 35.12: Morgan Stanley Transmission Agreements to be effective 4/1/2013.

Filed Date: 3/21/13.

Accession Number: 20130321-5117.

Comments Due: 5 p.m. ET 4/11/13.

Docket Numbers: ER13-1147-000.

Applicants: Southern California Edison Company

Description: Southern California Edison Company submits tariff filing per 35.13(a)(2)(iii: GIAs and Distribution Service Agmts with Mammoth Pacific Ltd, G1 and G3 Projects to be effective 4/1/2013.

Filed Date: 3/22/13.

Accession Number: 20130322-5001.

Comments Due: 5 p.m. ET 4/12/13.

Docket Numbers: ER13-1148-000.

Applicants: Southern California Edison Company.

Description: Southern California Edison Company submits tariff filing per 35.13(a)(2)(iii: Revised Added Facilities Rate for Garnet Energy Corporation to be effective 1/1/2013.

Filed Date: 3/22/13.

Accession Number: 20130322-5002.

Comments Due: 5 p.m. ET 4/12/13.

Docket Numbers: ER13-1149-000.

Applicants: New England Power Pool Participants Committee, ISO New England Inc.

Description: New England Power Pool Participants Committee submits tariff filing per 35.13(a)(2)(iii: Elimination of Obsolete Provisions to be effective 6/15/2013.)

Filed Date: 3/22/13.

Accession Number: 20130322-5054.

Comments Due: 5 p.m. ET 4/12/13.

Docket Numbers: ER13-1150-000.

Applicants: Alta Wind X, LLC.

Description: Alta Wind X, LLC submits tariff filing per 35.12: MBR Tariff to be effective 4/22/2013.

Filed Date: 3/22/13.

Accession Number: 20130322-5065.

Comments Due: 5 p.m. ET 4/12/13.

Docket Numbers: ER13-1151-000.

Applicants: Alta Wind XI, LLC.

Description: Alta Wind XI, LLC submits tariff filing per 35.12: MBR Tariff to be effective 4/22/2013.

Filed Date: 3/22/13.

Accession Number: 20130322-5067.

Comments Due: 5 p.m. ET 4/12/13.

Docket Numbers: ER13-1152-000.

Applicants: PacifiCorp.

Description: PacifiCorp submits tariff filing per 35.13(a)(2)(iii: IPA Mona Relay Replacement Agreement to be effective 5/22/2013.

Filed Date: 3/22/13.

Accession Number: 20130322-5071.

Comments Due: 5 p.m. ET 4/12/13.

Docket Numbers: ER13-1153-000.

Applicants: ISO New England Inc.

Description: ISO New England Inc. submits BED Resource Termination.

Filed Date: 3/22/13.

Accession Number: 20130322-5089.

Comments Due: 5 p.m. ET 4/12/13.

Docket Numbers: ER13-1154-000.

Applicants: ISO New England Inc.

Description: ISO New England Inc. submits Comverge Resource Termination.

Filed Date: 3/22/13.

Accession Number: 20130322-5090.

Comments Due: 5 p.m. ET 4/12/13.

Docket Numbers: ER13-1155-000.

Applicants: DTE Stockton, LLC.

Description: Application for Market-Based Rate Authority to be effective 4/17/2013.

Filed Date: 3/22/13.

Accession Number: 20130322-5100.

Comments Due: 5 p.m. ET 4/12/13.

Docket Numbers: ER13-1156-000.

Applicants: Vineland Energy LLC.

Description: Category Seller Clarification to be effective 3/22/2013.

Filed Date: 3/22/13.

Accession Number: 20130322-5105.

Comments Due: 5 p.m. ET 4/12/13.

Docket Numbers: ER13-1157-000.

Applicants: Ameren Illinois Company.

Description: WVPA Meter Replacement Letter Agreement RS 141 to be effective 12/13/2012.

Filed Date: 3/22/13.

Accession Number: 20130322-5114.

Comments Due: 5 p.m. ET 4/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2013.
Nathaniel J. Davis, Sr.,
Deputy Secretary.

[FR Doc. 2013-07492 Filed 3-29-13; 8:45 am]

BILLING CODE 6717-01-P